ENVIRONMENTAL PROTECTION AGENCY

40 CFR Part 52

[VA103-5047b; FRL-6534-8]

Approval and Promulgation of Air Quality Implementation Plans; Commonwealth of Virginia; Oxygenated Gasoline Program

AGENCY: Environmental Protection Agency (EPA).

ACTION: Proposed rule.

SUMMARY: EPA proposes to approve the State Implementation Plan (SIP) revision submitted by the Commonwealth of Virginia. The revision makes the oxygenated gasoline program a contingency measure of the maintenance plan for the Northern Virginia area, which means that the oxygenated gasoline program would only be required to be implemented in the Northern Virginia area if there is a violation of the carbon monoxide (CO) national ambient air quality standard (NAAQS). In the “Rules and Regulations” section of this Federal Register, EPA is approving the State's SIP submittal as a direct final rule without prior proposal because the Agency views this as a noncontroversial submittal and anticipates no adverse comments. A more detailed description of the state submittal and EPA's evaluation are included in a Technical Support Document (TSD) prepared in support of this rulemaking action. A copy of the TSD is available, upon request, from the EPA Regional Office listed in the ADDRESSES section of this document. If EPA receives no adverse comments, EPA will not take further action on this proposed rule. If EPA receives adverse comments, EPA will withdraw the direct final rule and it will not take effect. EPA will address all public comments in a subsequent final rule based on this proposed rule. EPA will not institute a second comment period. Any parties interested in commenting on this action should do so at this time.

DATES: Comments must be received in writing by March 20, 2000.

ADDRESSES: Written comments should be addressed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Virginia Department of Environmental Quality, 629 East Main Street, Richmond, Virginia 23219.

FOR FURTHER INFORMATION CONTACT: Kelly L. Bunker, (215) 814-2177, at the EPA Region III address above, or by e-mail at bunker.kelly@epa.gov.

SUPPLEMENTARY INFORMATION: For further information, please see the information provided in the direct final action, with the same title, that is located in the “Rules and Regulations” section of this Federal Register publication.

Dated: February 1, 2000.
Bradley M. Campbell,
Regional Administrator, Region III.

[FR Doc. 00-3358 Filed 2-16-00; 8:45 am]

BILLING CODE 6560-50-P